DEPARTMENT OF JUSTICE

National Institute of Corrections

Solicitation for a Cooperative Agreement-Development of the Transition and Activation for Juvenile Facilities Curriculum

AGENCY: National Institute Corrections, DOJ.

ACTION: Solicitation for a Cooperative Agreement.

SUMMARY: The project will result in the development of a curriculum that will help prepare juvenile practitioners charged with the transition to and activation of newly built or renovated juvenile facilities.

Project Objectives

The award recipient will:

• Establish the project team.

• Finalize the program agenda.

• Coordinate the project team in developing the lesson plans and all related training materials.

• Identify potential trainers and facilitators.

• Participate in the pilot program.

• Make recommendations and revise program and materials as necessary.

Scope of Work

Background and Purpose

The National Institute of Corrections (NIC) is Federal agency operating with the U.S. Department of Justice. Its mission is to deliver information, training and technical assistance to Federal, state and local correctional agencies that will allow them to improve their programs, services and operations.

In recent years the number of juvenile justice agencies planning and constructing secure facilities to house juvenile has begun to increase. Like any facility designed to detain and/or incarcerate offenders, these buildings are complex structures requiring complex processes and procedures to operate. Once designed and built practitioners are left with the task of ensuring the new facility functions as designed and in a manner that meets its mandates and mission. The transition to or activation of a new facility requires a great deal of planning. Hundreds of policy and administrative decisions involving programs, services and operations are required. These decisions drive thousands of detailed procedures, schedules, inspections, activities, moving and training plans, and the resultant documentation. This training will help prepare practitioners for this major undertaking by presenting options for offender programming supported by experience and research, plus various approaches to the organization of the transition and activation effort.

Design and Implementation

The award recipient will develop a training program for juvenile justice agencies who are planning and constructing new juvenile facilities. This curriculum will be based on a rough agenda previously developed by a work group consisting of juvenile practitioners who have designed and activated facilies, plus resource provides who have worked with, and delivered training specifically addressing the process of transition and activation. The curriculum will include the final agenda, lesson plans and all related training materials. In addition, the recipient will make recommendations regarding potential trainers and program revisions following a pilot presentation.

The following presents a description of the project, the work activities required for completion, and the project deliverable. It also sets forth the expectation of the relationship between the National Institute of Corrections, the NIC Academy Correctional Program Specialist assigned to the project and the resource provider to whom the cooperative agreement is warded.

A. Description

The singular focus of this cooperative agreement will be the development of a training program designed to assist juvenile justice practioners charged with moving into and activating new or renovated juvenile facilities. This will include the design, review, pre-pilot revisions and post-pilot revisions of the program materials.

It is anticipated that the program will be approximately 36 hours in length. Once developed, piloted and revised a necessary, the program may be held at the NIC Training Center in Longmont, Colorado, or a regional sites around the country.

The process of transition and activation usually involves a wide variety of individuals. Some will have a direct role in the operation of the facility, while others will be significant stakeholders and users. Still others will be only tangentially involved, but must be kept informed of the transition team's progress, and later the facility's ongoing operations. Consequently, the program is likely to be presented for jurisdictional teams. Minimally, this team should consist of the assigned transition coordinator and the facility director. As the curriculum develops, the award recipient will be expected to make recommendations regarding the size and composition of the team.

B. The Work To Be Performed

Program Development Activities

1. Consult with the NIC Academy Division Correctional Program Specialist (CPS) assigned to manage the project to ensure understanding of, and agreement on, the scope of work to be performed.

2. Identify members of the project work team and submit to the NIC Academy CPS for approval.

3.Develop and submit a detailed work plan to the NIC Academy CPS for approval. This work plan must include, but may not be limited to:

• The tasks or activities which need to be accomplished to complete the project;

• An identification of how and to whom the tasks or activities will be assigned;

• Time lines for accomplishing project activities; and

• The anticipated number of project team meetings, plus the purpose for and project members to attend each meeting.

The applicant will include all costs associated with the above referenced project meetings in the budget proposal, excluding airfares.

4. Develop the program agenda to be used for the pilot program and submit it to the NIC Academy CPS for approval.

5. Offer a recommendation regarding the use of a recently constructed and occupied facility as a part of the curriculum. Such a recommendation will include an explanation as to how this will support the curriculum, enhance the learning experience, and identify one or more potential sites.

6. After initial development, submit drafts of all training materials to the NIC Academy CPS for review, discussion and approval. Make revisions as necessary.

Note: Training materials will include, but may not be limited to, lesson plans, overhead transparencies or computer generated visual aids, checklists, practical application exercises and accompanying materials, a comprehensive inventory of all required equipment and supplies, resource materials and supplemental readings, a participant manual or workbook, and an action planning guidebook to be completed by the participant teams.

Pilot Program Activities

1. At a minimum practitioners who will attend the training will be the assigned transition coordinator and the facility director. If appropriate, the recipient will recommend other positions or individuals who should be included on the agency's participant team.

2. Consult with the NIC Academy CPS regarding potential trainers and presenters for program delivery. The Institute will have final approval of the program's training staff.

3. Attend, participate in, and observe the pilot program. The applicant will include all costs associated with this participation in the proposed budget, excluding the airfares.

4. Prepare and submit a report containing observations and recommendations from the pilot program. Observations will be derived from interaction with the participants, participant and staff comments, and participant evaluations. It should also include recommendations regarding marketing and agency selection criteria.

5. Work with the NIC Academy CPS to determine the final changes to be made to the curriculum. If necessary, conduct a post-pilot project meeting to finalize the required revisions. The applicant will include all costs associated with the above referenced project meeting in the budget proposal, excluding airfares. Make final curriculum revisions.

Products and Deliverables

1. Complete and submit a final report summarizing the project and including overall observations and/or recommendations not addressed as a part of the curriculum revisions.

2. Prepare curriculum using Corel WordPerfect 9 software and Corel Presentations.

3. Submit two compact disks containing final copies of all lesson plans, visual aids, training exercises, participant manuals or workbooks, and all other associated training materials, plus two hard copies in “camera ready” form.

All material produced will become the property of the U.S. Government and will be delivered to NIC upon completion of the project. Under no circumstances shall the recipient conduct a training program or use participant materials to market the recipient's services.

Rough Draft of Agenda: How To Open and Operate New Institutions for Juveniles

DAY 1

A. Overview of Process

Expectations, concerns, transition budget, task force development

B. Strategic Planning

C. Organizational Culture

D. Management Styles

E. Values

F. Mission and Vision

2. Factors Impacting Operations and Programming

A. Office of Juvenile Justice and Delinquency Prevention (OJJDP) Mandates

B. Unique Problems and Trends

C. Over-representation of Minorities

DAY 2

A. Operational Planning and Programming

1. OJJDP Mandates and Best Practices

2. Research-based Programming and Strategies

3. Performance-based Standards

4. Inter-Agency Coordination

5. Intra-Agency Coordination

B. Facility Scheduling

DAY 3

A. Scenarios

B. Policies and Procedures

C. Post Orders/P.D.

D. Resident Orientation

DAY 4

A. Task Force Management and Structure

B. New Facility Training

C. Move Logistics

D. Program Evaluation

End of Agenda.

Authority: Public Law 93-415.

Funds Available: The award will be limited to $80,000 (direct and indirect costs) and project activity must be completed within 10 months of the date of award. Funds may not be used for construction, or to acquire or build real property. This project will be a collaborative venture with the NIC Academy Division.

Deadline for Receipt of Applications: Applications must be received by 4:00 p.m. Eastern Daylight Savings Time on August 30, 2001. They should be addressed to: Director, National Institute of Corrections, 320 First Street, NW., Room 5007, Washington, DC 20534. Hand delivered applications should be brought to 500 First Street, NW., Washington, DC 20534. The front desk will call Bobbi Tinsley at (202) 307-3106, extension 0 for pick-up.

ADDRESSES AND FURTHER INFORMATION: A copy of this announcement and application forms may be obtained through the NIC web site: http://www.nicic.org (click on “Cooperative Agreements”). If a written copy is needed contact Judy Evens, Cooperative Agreement Control Office (1-800-995-6423 x 44222) or (202) 307-3106 ext. 44222, email at jevens@bop.gov.) All technical and/or programmatic questions concerning this announcement should be directed to Dee Halley at 1960 Industrial Circle, Longmont, Colorado, or by calling (800) 995-6429, ext. 116 or (303) 682-0382 or by E-mail via dhalley@bop.gov.

Eligibility of Applicants: An eligible applicant is any public or private agency, educational institution, organization, team, or individual with the requisite skills to successfully meet the outcome objective of the project. Applicants must have experience in juvenile justice and corrections, relevant experience activating juvenile facilities and the demonstrated ability to design, develop and implement training.

Review Considerations: Applications received under this announcement will be subjected to an NIC 3 to 5 member Peer Review Process.

Number of Awards: One (1).

NIC Application Number: 01A03. This number should appear as a reference line in your cover letter and also in box 11 of Standard Form 424.

Executive Order 12372: Project is not subject to the provisions of this Executive Order.

Catalog of Federal Domestic Assistance Number: 16.601—Title: Corrections—Training and Staff Development

Dated: July 26, 2001.
Morris L. Thigpen,
Director, National Institute of Corrections.

[FR Doc. 01-19110 Filed 7-31-01; 8:45 am]

BILLING CODE 4410-36-M